DEPARTMENT OF COMMERCE

National Oceanic and Atmospheric Administration

Notice of Intent To Prepare and Environmental Impact Statement (EIS) for the Proposed Approval of a Coastal Management Program for the State of Illinois Under the Coastal Zone Management Act (CZMA) of 1972, As Amended

AGENCY: Office of Ocean and Coastal Resource Management (O CRM), National Oceanic and Atmospheric Administration (NOAA), U.S. Department of Commerce.

ACTION: Notice of intent to prepare an EIS; request for comments.

SUMMARY: Pursuant to the National Environmental Policy Act (NEPA) of 1969, as amended (42 U.S.C. 4231, et seq,), the Council on Environmental Quality Regulations for implementing the procedural provisions of NEPA (40 Code of Federal Regulation (CFR) parts 1500-1508), and NOAA policy and procedures (NOAA Administrative Orders (NAO) 216-6), the NOS Office of Ocean and Coastal Resource Management (OCRM) is issuing this notice to advise the public of its intent to prepare an EIS evaluating potential environmental impacts associated with approving and providing annual funding for the State of Illinois' Coastal Management Program under the CZMA. Interested parties who wish to submit suggestions, comments on substantive information regarding the scope of content of the proposed DEIS, extent of the action, range of alternatives, and types of impacts, are invited to provide written comments to the designated officials below. Currently there are no scoping meetings planned, as many meetings and workshops have already been held for Federal, State and local agencies as well as the public in Illinois. The meetings and written comments will be documented and summarized in a scoping report included in the DEIS for public comment.

SUPPLEMENTARY INFORMATION: The National Coastal Zone Management (CZM) Program is a voluntary partnership between the Federal Government and U.S. coastal States and territories authorized by the CZMA. OCRM administers program at the Federal level and works with State coastal zone management partners to:

• Preserve, protect, develop and, where possible, restore and enhance the resources of the nation's coastal zone for this and succeeding generations;

• Encourage and assist the states to exercise effectively their responsibilities in the coastal zone to achieve wise use of land and water resources, giving full consideration to ecological, cultural, historic, and aesthetic values, as well as the need for compatible economic development;

• Encourage the preparation of special area management plans to provide increased specificity in protecting significant natural resources, reasonable coastal-dependent economic growth, improved protection of life and property in hazardous areas and improved predictability in government decisionmaking; and

• Encourage the participation, cooperation, and coordination of the public, Federal, State, local, interstate and regional agencies, and governments affecting the coastal zone.

Of the 35 coastal States and island territories eligible to participate in the CMP, only Illinois has not joined. A total of 34 coastal States and five island territories and commonwealths have developed CZM programs representing more than 99.9 percent of the nation's 95,331 miles of oceanic and Great lakes coastline. Illinois has 63 miles of shoreline.

On November 4, 2004, Governor Blagojevich announced that Illinois would be seeking application into the National Coastal Zone Management Program. It is a voluntary program under which Illinois will be applying to NOAA for Federal program approval and Federal funding. The Illinois Department of Natural Resources has been designated as the lead State agency for developing the Lake Michigan Coastal Management Program for Illinois. The purpose of the Illinois Coastal Management Program (ICMP) will be to enhance the State's role in planning for and managing its natural and cultural resources in the coastal region. Many Federal, State, and local agencies manage resources in the coastal region of Illinois. This will not change, as the fundamental roles of the agencies will remain the same. The ICMP will encourage coordination of agency efforts in the coastal region and will provide opportunities for Federal, State, and local stakeholders to cooperatively identify priorities for the coastal region and to implement projects which address those priorities.

Upon ICMP approval, Illinois will be eligible to receive approximately $2 million/year in Federal CZMA funds, which will fund a grants program to assist in implementing projects and studies designed to protect and enhance the natural and cultural resources within Illinois' coastal zone. The ICMP will create ecological, recreational and economic opportunities for Illinois and may provide assistance in addressing the following issues: Water quality; protection of wetlands and other natural resources; planning for erosion control, utility access and energy development; improving public access for recreational purposes; redevelopment of deteriorating and underutilized urban waterfronts and ports; educational, interpretive, and research measures; documentation, monitoring and analysis of coastal land uses changes; and preservation and/or restoration of areas for their conservation, recreational, ecological, historical and aesthetic values.

The EIS will analyze the environmental impacts of two alternatives that are available to OCRM: (1) Approve the program and (2) do not approve the program, or the No Action alternative. Public participation is invited by providing written comments to NOS, and attending public meetings conducted by the State. OCRM reserves the right to hold additional scoping meetings should they prove necessary, and they will be noticed in the Federal Register and local newspapers 30 days in advance of their being held.

Oral and written comments presented at the public scoping meetings, as well as written comments received by OCRM during this scoping period and throughout the EIS process, will be considered in the preparation of the EIS. To ensure that OCRM has sufficient time to consider public input in preparation of the Draft EIS, written comments should be submitted to the address below by 29 June 2007. Letters and other written or oral comments received may be published in the EIS along with the names of the individuals making the comments (personal home addresses and phone numbers will not be published). As required by law, comments will be addressed in the EIS and made available to the public. Private addresses will only be used to develop a mailing list of those individuals requesting copies of the EIS.

FOR FURTHER INFORMATION CONTACT: Please direct any written comments or requests for information to: Diana Olinger, Coastal Programs Division, Office of Ocean and Coastal Resource Management, National Oceanic and Atmospheric Administration, 1305 East-West Highway, Silver Spring, Maryland 20910, E-mail: Diana.Olinger@noaa.gov, telephone number: (301) 563-1149.

William Corso,
Deputy Assistant Administrator, Ocean Services and Coastal Zone Management, National Oceanic and Atmospheric Administration.

(Federal Domestic Assistance Catalog 11.419 Coastal Zone Management Program Assistance)

[FR Doc. 07-1888 Filed 4-16-07; 8:45 am]

BILLING CODE 3510-08-M